MILLENNIUM CHALLENGE CORPORATION

[MCC FR 23-08]

Notice of Open Meeting

AGENCY: Millennium Challenge Corporation.

ACTION: Notice.

SUMMARY: In accordance with the requirements of the Federal Advisory Committee Act, the Millennium Challenge Corporation (MCC) Economic Advisory Council was established as a discretionary advisory committee on October 5, 2018. Its charter was most recently renewed on September 30, 2022. The MCC Economic Advisory Council serves MCC solely in an advisory capacity and provides advice and guidance to MCC economists, evaluators, leadership of the Department of Policy and Evaluation and senior MCC leadership regarding relevant trends in development economics, applied economic and evaluation methods, and poverty analytics, as well as modeling, measuring, and evaluating development interventions. In doing so, the MCC Economic Advisory Council helps sharpen MCC's analytical methods and capacity in support of the agency's economic development goals. It also serves as a sounding board and reference group for assessing and advising on strategic policy innovations and methodological directions in MCC.

DATES: Friday, November 3, 2023, from 10 a.m.-12:30 p.m. ET.

ADDRESSES: The meeting will be held in a hybrid format, both in-person at 1099 14th Street NW, Suite 700, Washington, DC 20005, and via WebEx.

FOR FURTHER INFORMATION CONTACT: Mesbah Motamed, 202.521.7874, MCCEACouncil@mcc.gov or visit www.mcc.gov/about/org-unit/economic-advisory-council.

SUPPLEMENTARY INFORMATION:

Agenda: During this meeting of the MCC Economic Advisory Council, members will receive an overview of MCC's work and the context and function of the MCC Economic Advisory Council within MCC's mission. The MCC Economic Advisory Council will also discuss issues related to MCC's core functions, including a focus on MCC's climate-related analytics and investments.

Public Participation: The meeting will be open to the public. Members of the public may file written statements before or after the meeting. If you plan to participate, please submit your name and affiliation no later than Friday, October 27, 2023, to MCCEACouncil@mcc.gov to receive instructions on how to attend.

(Authority: Federal Advisory Committee Act, 5 U.S.C. App.)

Dated: October 16, 2023.
Gina Porto Spiro,
Acting Vice President, General Counsel, and Corporate Secretary.

[FR Doc. 2023-23109 Filed 10-18-23; 8:45 am]

BILLING CODE 9211-03-P